FEDERAL TRADE COMMISSION

Agency Information Collection Activities; Submission for OMB Review; Comment Request

AGENCY: Federal Trade Commission.

ACTION: Notice and request for comment.

SUMMARY: The Federal Trade Commission (FTC or Commission) plans to conduct an online survey of parents and (with parental permission) their children from the ages of 8-16 years old who watch movies, listen to music, and/or play game applications (apps) on smartphones, Internet-accessible handheld devices, or tablet computers (collectively app-capable mobile devices) that run either the Apple's iOS or Google's Android operating system. This is the second of two notices required under the Paperwork Reduction Act (PRA), and the Commission seeks additional public comments and requests Office of Management and Budget (OMB) review of, and clearance for, the proposed collection of information.

DATES: Comments must be received by April 11, 2013.

ADDRESSES: Interested parties may file a comment online or on paper, by following the instructions in the Request for Comment part of the SUPPLEMENTARY INFORMATION section below.

FOR FURTHER INFORMATION CONTACT: Requests for additional information or copies of the proposed information requirements should be addressed to Keith Fentonmiller, (202) 326-2775, Attorney, Federal Trade Commission, Bureau of Consumer Protection, Division of Advertising Practices, 600 Pennsylvania Ave. NW., Washington, DC 20580.

SUPPLEMENTARY INFORMATION: Title: Online survey of parents and children about movies, music, and games on app-capable mobile devices.

OMB Information Collection Request Reference Number: 201302-3084-002.

Type of Information Request: New collection.

Type of Review: Regular.

Abstract: Although children (like consumers generally) increasingly are purchasing or playing movies, music, and games on app-capable mobile devices, no commercially available data quantify children's consumption of mobile content that is rated or labeled as potentially inappropriate for them; assess whether and to what extent the various content rating systems impact their ability to purchase or play such content; or measure the content restrictions imposed by parents, including through technology-based parental control mechanisms. Accordingly, the Commission proposes to conduct a survey of parents and (with parental permission) their children from the ages of 8-16 years old who use the most common app-capable mobile devices—those that run either Apple's iOS or Google's Android platform. The staff anticipates conducting a voluntary online survey of 900 adult respondents and 900 children drawn from a nationally representative pool. The Commission expects that the survey results will help inform its policy recommendations on the marketing of violent entertainment to children.

On September 24, 2012, the Commission sought comment on the information collection requirements for the proposed consumer research. 77 FR 58834. No comments were received. Staff, however, did have a telephone discussion about the proposed survey with representatives from the Entertainment Software Rating Board (ESRB). The ESRB expressed concern that the Commission was planning to survey only children, in contrast to prior surveys, which asked questions of both children and their parents. After further consideration, the Commission has decided to expand the online survey to include the parents of children who watch movies, listen to music, and/or play game apps on mobile devices. As required by OMB regulations, 5 CFR part 1320, the FTC is providing this second opportunity for public comment.

This online survey will build upon the body of consumer research that the Commission has conducted in the media violence area since 2000, which includes seven undercover shops by children of music, movie, and video game retailers and movie theaters; two telephone surveys of parents and children about their awareness and use of the entertainment rating and labeling systems; ¹ a mall intercept study of parents on the adequacy of rating disclosures on movie DVD cases; and a telephone survey of parents on the marketing of unrated DVDs.² Although a survey of only children about their consumption of violent entertainment on mobile devices would be informative, past research has been especially instructive when the Commission has been able to compare the responses of parents and their children about parental involvement in the selection and purchase of violent movies, music, and games; the extent to which parents restrict their children's access to violent content; and awareness and use of the rating and labeling systems for such content. This research has uncovered significant differences between what parents think they are doing to regulate their children's consumption of violent content and their children's reported experiences. These areas of parent-child disconnection have informed the Commission's recommendations for the entertainment industry and guided its consumer education efforts. For these same reasons, the Commission now intends to survey parents about their children's access to violent content on mobile devices, awareness and use of content labeling and rating systems, and awareness and use of parental controls for mobile content. Similar questions will be posed to the adult respondents' children.

¹ See FTC, Marketing Violent Entertainment To Children: A Review Of Self-Regulation And Industry Practices In The Motion Picture, Music Recording & Electronic Game Industries, Appendix F, at 5 (Sep. 2000), available at http://www.ftc.gov/reports/violence/Appen%20F.pdf; FTC, Marketing Violent Entertainment to Children: A Fifth Follow-up Review of Industry Practices in the Motion Picture, Music Recording & Electronic Game Industries, at 25 (Apr. 2007), available at http://www.ftc.gov/reports/violence/070412MarketingViolentEChildren.pdf.

² See FTC, Marketing Violent Entertainment to Children: A Sixth Follow-Up Review of Industry Practices in the Motion Picture, Music Recording & Electronic Game Industries, at 10 & 16 (Dec. 2009), available at http://ftc.gov/os/2009/12/P994511violententertainment.pdf.

Likely Respondents: With the assistance of a consumer research firm (hereafter the Contractor), the FTC will develop a draft questionnaire for use in a nationally representative online survey of parents and (with parental permission) their children ages 8-16 years who watch movies, listen to music, and/or play game apps on a mobile device that runs either the Apple iOS or Android operating system. To the extent feasible, the adult panel shall consist of 100 adult respondents for each of the nine child age groups between ages 8 and 16, inclusive (900 total adult respondents). The child survey shall be conducted as an adjunct to the parents' survey, i.e., by surveying each child about whom the adult respondents answered their survey questions (900 total child respondents).

Estimated Annual Hours Burden: Approximately 417 hours (117 hours for the adult screener + 300 hours for the parent and child surveys).

• Screening Questions: The screening questions will be asked of approximately 7,000 adult respondents to provide a large enough random sample for the surveys. Cumulatively, screening should require a maximum of 117 hours (7,000 total respondents × 1 minute for each). Because the adult respondents will be pre-screening the 900 child respondents, the Commission does not anticipate any burden on children related to screening.

• Survey Questions: Answering the surveys will impose a burden per adult respondent of approximately 10 minutes, totaling 150 hours for all respondents to the surveys (900 respondents × 10 minutes per survey). Similarly, answering the surveys will impose a burden per child respondent of approximately 10 minutes, totaling 150 hours for all respondents to the surveys (900 respondents × 10 minutes per survey).

Estimated annual cost burden: $0.

The cost per respondent should be negligible. Participation is voluntary, and will not require any labor expenditures by respondents. There are no capital, start-up, operation, maintenance, or other similar costs to the respondents.

Request for Comment: You can file a comment online or on paper. For the Commission to consider your comment, we must receive it on or before April 11, 2013. Write “Entertainment Industry Study: FTC File No. P994511” on your comment. Your comment—including your name and your state—will be placed on the public record of this proceeding, including, to the extent practicable, on the public Commission Web site, at http://www.ftc.gov/os/publiccomments.shtm. As a matter of discretion, the Commission tries to remove individuals' home contact information from comments before placing them on the Commission Web site.

Because your comment will be made public, you are solely responsible for making sure that your comment does not include any sensitive personal information, like anyone's Social Security number, date of birth, driver's license number or other state identification number or foreign country equivalent, passport number, financial account number, or credit or debit card number. You are also solely responsible for making sure that your comment does not include any sensitive health information, like medical records or other individually identifiable health information. In addition, do not include any “[t]rade secret or any commercial or financial information * * * which is privileged or confidential.” See Section 6(f) of the FTC Act, 15 U.S.C. 46(f), and FTC Rule 4.10(a)(2), 16 CFR 4.10(a)(2). In particular, do not include competitively sensitive information such as costs, sales statistics, inventories, formulas, patterns, devices, manufacturing processes, or customer names.

If you want the Commission to give your comment confidential treatment, you must file it in paper form, with a request for confidential treatment, and you have to follow the procedure explained in FTC Rule 4.9(c), 16 CFR 4.9(c). Your comment will be kept confidential only if the FTC General Counsel, in his or her sole discretion, grants your request in accordance with the law and the public interest.

Postal mail addressed to the Commission is subject to delay due to heightened security screening. As a result, we encourage you to submit your comments online, or to send them to the Commission by courier or overnight service. To make sure that the Commission considers your online comment, you must file it at https://ftcpublic.commentworks.com/ftc/mobileappssurveypra2, by following the instructions on the web-based form. If this Notice appears at http://www.regulations.gov, you also may file a comment through that Web site.

If you file your comment on paper, write “Entertainment Industry Study: FTC File No. P994511” on your comment and on the envelope, and mail or deliver it to the following address: Federal Trade Commission, Office of the Secretary, Room H-113 (Annex J), 600 Pennsylvania Avenue NW., Washington, DC 20580. If possible, submit your paper comment to the Commission by courier or overnight service.

Visit the Commission Web site at http://www.ftc.gov to read this Notice. The FTC Act and other laws that the Commission administers permit the collection of public comments to consider and use in this proceeding as appropriate. The Commission will consider all timely and responsive public comments that it receives on or before April 11, 2013. You can find more information, including routine uses permitted by the Privacy Act, in the Commission's privacy policy, at http://www.ftc.gov/ftc/privacy.shtm.

Comments on the information collection requirements subject to review under the PRA should also be submitted to OMB. If sent by U.S. mail, address comments to: Office of Information and Regulatory Affairs, Office of Management and Budget, Attention: Desk Officer for the Federal Trade Commission, New Executive Office Building, Docket Library, Room 10102, 725 17th Street NW., Washington, DC 20503. Comments sent to OMB by U.S. postal mail, however, are subject to delays due to heightened security precautions. Thus, comments instead should be sent by facsimile to (202) 395-5167.

David C. Shonka,
Acting General Counsel.

[FR Doc. 2013-05630 Filed 3-11-13; 8:45 am]

BILLING CODE 6750-01-P